DEPARTMENT OF THE INTERIOR

Bureau of Land Management

[16X; LLIDB00100.LF1000000.HT0000.LXSS024D0000.241A00.4500091464]

Meeting of the Tri-State Fuel Break Joint Subcommittee of the Boise and Southeast Oregon Resource Advisory Councils to the Boise and Vale Districts

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Tri-State Fuel Break Project Joint Subcommittee of the Boise District and Southeast Oregon Resource Advisory Councils (RACs) will hold meetings as indicated below.

DATES: The meetings will be held on the following dates and at the following locations:

• April 20, 2016—Vale District Office located at 100 Oregon St., Vale, OR 97918

• May 4, 2016—Boise District Office located at 3948 S. Development Avenue, Boise, ID 83705

• May 18, 2016—Vale District Office located at 100 Oregon St., Vale, OR 97918

• June 1, 2016—Boise District Office located at 3948 S. Development Avenue, Boise, ID 83705

Meetings will begin at 9:00 a.m. and adjourn by 3:00 p.m. Members of the public are invited to attend. A public comment period will be held.

FOR FURTHER INFORMATION CONTACT: Krista Berumen, Bureau of Land Management Public Affairs Specialist, 1387 South Vinnell Way Boise, Idaho 83709, (208)-373-3826.

SUPPLEMENTARY INFORMATION: The Tri-State Fuel Break Joint Subcommittee advises the Boise District and Southeast Oregon Resource Advisory Councils (RACs) on potential areas to locate fuel breaks for the proposed Tri-State Fuel Break Project and Environmental Impact Statement (EIS). The RACs advise the Secretary of the Interior, through the Bureau of Land Management, on a variety of planning and management issues associated with public land management in Idaho and Oregon. The joint subcommittee will be discussing potential fuel break locations within the proposed project area during the meetings. Agenda items and location may change due to changing circumstances. The public may present written or oral comments to members of the joint subcommittee. Individuals who plan to attend and need special assistance should contact the BLM Coordinator as provided above. Persons who use a telecommunications device for the deaf (TDD) may call the Federal Information Relay Service (FIRS) at 1-800-877-8339 to contact the above individual during normal business hours. The FIRS is available 24 hours a day, 7 days a week, to leave a message or question with the above individual. You will receive a reply during normal business hours. Additional information about the RACs is available at www.blm.gov/id/st/en/res/resource_advisory.3.html.

Dated: March 17, 2016.
Lara Douglas,
Boise District Manager.

[FR Doc. 2016-06651 Filed 3-23-16; 8:45 am]

BILLING CODE 4310-GG-P